DEPARTMENT OF AGRICULTURE

Food Safety and Inspection Service

[Docket No. 01-044N]

Codex Alimentarius Commission: Fifth Session of the Codex Committee on Milk and Milk Products

AGENCY: Office of the Under Secretary for Food Safety, USDA.

ACTION: Notice of public meeting and request for comments.

SUMMARY: The Office of the Under Secretary for Food Safety, the Agricultural Marketing Service (AMS), U.S. Department of Agriculture (USDA), the Food and Drug Administration (FDA), and the Department of Health and Human Services (DHHS), are sponsoring a public meeting on March 20, 2002, to review the technical content of the agenda item documents and receive comments on all issues coming before the Fifth Session of the Codex Committee on Milk and Milk Products, which will be held in Wellington, New Zealand, April 2-8, 2002.

DATES: The public meeting is scheduled for Wednesday, March 20, 2002, from 9 a.m. to 12 noon.

ADDRESSES: The public meeting will be held in Room 3501, South Agriculture Building, U.S. Department of Agriculture, 14th Street and Independence Avenue, SW., Washington, DC 20250.

To receive copies of documents relevant to this notice, contact the Food Safety and Inspection Service (FSIS) Docket Room, U.S. Department of Agriculture, FSIS, Room 102, Cotton Annex, 300 12th Street, SW., Washington, DC 20250-3700. The documents will also become accessible via the World Wide Web at the following address: http://www.fao.org/waicent/faoinfo/economic/esn/Codex. Send comments, in triplicate, to the FSIS Docket Room and reference Docket #01-044N. All comments submitted in response to this notice will be available for public inspection in the FSIS Docket Room between 8:30 a.m. and 4:30 p.m., Monday through Friday.

FOR FURTHER INFORMATION CONTACT: Patrick J. Clerkin, Associate U.S. Manager for Codex; Telephone: (202) 205-7760; Fax: (202) 720-3157. Persons requiring a sign language interpreter or other special accommodations should notify Mr. Clerkin at the above number.

SUPPLEMENTARY INFORMATION:

Background

Codex was established in 1962 by two United Nations organizations, the Food and Agriculture Organization and the World Health Organization. Codex is the major international organization for encouraging fair international trade in food and protecting the health and economic interests of consumers. Through adoption of food standards, codes of practice and other guidelines developed by its committees, and by promoting their adoption and implementation by governments, Codex seeks to ensure that the world's food supply is sound, wholesome, free from adulteration and correctly labeled.

The Codex Committee on Milk and Milk Products was established to elaborate codes and standards for Milk and Milk Products. The Government of New Zealand hosts this committee and will chair the committee meeting.

Issues To Be Discussed at the Public Meeting

The following specific issues will be discussed during the public meeting:

1. Matters referred by the Codex Alimentarius Commission and other Codex committees

2. Review of the Proposed Draft and Draft Revised Standards: Cream; Fermented Milk Products; Dairy Spreads; Processed Cheese; Individual Cheeses; and Whey Powders

3. Proposed Standards for Products in Which Milkfat is Substituted for by Vegetable Fat

4. Model Export Certificate for Milk Products

5. Review of Proposals for New Standards for “Parmesan” and “Cheese Specialities”

Additional Public Notification

Public awareness of all segments of rulemaking and policy development is important. Consequently, in an effort to better ensure that minorities, women, and persons with disabilities are aware of this notice, FSIS will announce it and provide copies of this Federal Register publication in the FSIS Constituent Update. FSIS provides a weekly Constituent Update, which is communicated via fax to over 300 organizations and individuals. In addition, the update is available on-line through the FSIS web page located at http://www.fsis.usda.gov. The update is used to provide information regarding FSIS policies, procedures, regulations, Federal Register notices, FSIS public meetings, recalls, and any other types of information that could effect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

Done at Washington, DC on: January 18, 2002.
F. Edward Scarbrough,
U.S. Manager for Codex Alimentarius.

[FR Doc. 02-1749 Filed 1-23-02; 8:45 am]

BILLING CODE 3410-DM-P